NATIONAL AERONAUTICS AND SPACE ADMINISTRATION

[Notice (01-114)]

Notice of Prospective Patent License

AGENCY: National Aeronautics and Space Administration.

ACTION: Notice of prospective patent license.

SUMMARY: NASA hereby gives notice that Profound Technologies, a Georgia corporation, has applied for a partially exclusive license to practice the invention described and claimed in U.S. Patent No. 6,261,844, entitled “Urine Preservative,” which is assigned to the United States of America as represented by the Administrator of the National Aeronautics and Space Administration. Written objections to the prospective grant of a license should be sent to Johnson Space Center.

DATE(S): Responses to this notice must be received by November 16, 2001.

FOR FURTHER INFORMATION CONTACT: James Cate, Patent Attorney, NASA Johnson Space Center, Mail Stop HA, Houston, TX 77058-8452; telephone (281) 483-1001.

Dated: September 25, 2001.
Edward A. Frankle,
General Counsel.

[FR Doc. 01-24529 Filed 10-1-01; 8:45 am]

BILLING CODE 7510-01-P